ENVIRONMENTAL PROTECTION AGENCY

[FRL-11371-01-R8]

Clean Air Act Operating Permit Program; Order on Petitions for Objection to State Operating Permit for Suncor Energy, Inc. Plant 2 (East Plant)

AGENCY: Environmental Protection Agency (EPA).

ACTION: Notice of final order on petitions.

SUMMARY: The Environmental Protection Agency (EPA) Administrator signed an order dated July 31, 2023, granting in part and denying in part a petition dated October 11, 2022, from Earthjustice on behalf of Elyria and Swansea Neighborhood Association, Cultivando, Colorado Latino Forum, GreenLatinos, Center for Biological Diversity, and Sierra Club, and denying a petition dated October 11, 2022, from 350 Colorado. The petitions requested that the EPA object to a Clean Air Act (CAA) operating permit issued by the Colorado Department of Public Health and Environment (CDPHE) to Suncor Energy, Inc. for its Refinery Plant 2 Facility in Adams County, Colorado.

FOR FURTHER INFORMATION CONTACT: Donald Law, EPA Region 8, telephone number: (303) 312-7015, email address: law.donald@epa.gov. The final order and petition are available at: https://www.epa.gov/title-v-operating-permits/title-v-petition-database.

SUPPLEMENTARY INFORMATION: The EPA received a petition from Earthjustice on behalf of Elyria and Swansea Neighborhood Association, Cultivando, Colorado Latino Forum, GreenLatinos, Center for Biological Diversity, and Sierra Club dated October 11, 2022, and a petition from 350 Colorado dated October 11, 2022, requesting that the EPA object to the issuance of operating permit no. 95OPAD108, issued by CDPHE to Suncor Energy, Inc. in Adams County, Colorado. On July 31, 2023, the EPA Administrator issued an order granting in part and denying in part the petition from the Elyria and Swansea Neighborhood Association and other groups, and denying the petition from 350 Colorado. The order itself explains the basis for the EPA's decision.

Under sections 307(b) and 505(b)(2) of the CAA, a petitioner may request judicial review of those portions of an order that deny issues in a petition. Any petition for review must be filed in the United States Court of Appeals for the appropriate circuit no later than November 17, 2023.

Dated: August 31, 2023.
KC Becker,
Regional Administrator, Region 8.

[FR Doc. 2023-20146 Filed 9-15-23; 8:45 am]

BILLING CODE 6560-50-P